DEPARTMENT OF THE INTERIOR

Fish and Wildlife Service

Endangered Species Permit Applications

AGENCY: Fish and Wildlife Service.

ACTION: Notice of receipt of permit applications.

SUMMARY: The following applicants have applied for a scientific research permit to conduct certain activities with endangered species pursuant to section 10(a)(1)(A) of the Endangered Species Act of 1973, as amended (16 USC 1531 et seq.).

Permit No. TE-036499-0.

Applicant: National Park Service, Golden Gate National Recreation Area, San Francisco, California.

The applicant requests a recovery permit amendment to remove/reduce to possession the Raven's manzanita (Arctostaphylos hookeri var. Ravennii), Marin dwarf flax (Hesperolinon congestum), Presidio clarkia (Clarkia franciscana), San Francisco lessingia (Lessingia germanorum), and California sea-blite (Suaeda californica) in conjunction with native habitat restoration and enhancement, including collection of plants and their propagation, seeding and planting, invasive exotic plant removal and controlled burning, on the Presidio of San Francisco, Golden Gate National Recreation Area, Marin County, CA, for the purpose of enhancing the survival of these species. This permit was previously issued as subpermit GGNRA-2.

Permit No. TE-027427.

Applicant: Jeff Alvarez, Sacramento, California.

The applicant requests a permit to take (capture, mark, radio-tag) Alameda whipsnakes (Masticophis lateralis euryxanthus) throughout the species range in conjunction with surveys and ecological research for the purpose of enhancing its survival.

Permit No. TE-045733.

Applicant: Bureau of Land Management, Burns District, Hines, Oregon.

The applicant requests a recovery permit to remove/reduce to possession seeds of the Malheur wire lettuce (Stephanomeria malheurensis) throughout the species' range, in conjunction with various recovery activities as outlined in the Recovery Plan, for the purpose of enhancing its survival.

Permit No. TE-045937.

Applicant: Alan Hastings, Ph.D. et al., Dept. of Environmental Studies, University of California at Davis, Davis, California.

The applicant requests a recovery permit to take (harm, harass) salt marsh harvest mouse (Reithrodontomys raviventris) and California Clapper Rail (Rallus longirostris obsoletus) within the San Francisco estuary, Alameda and San Mateo Counties, California, in conjunction with an ecological study of invasive cordgrass (Spartina alterniflora x Spartina foliosa hybrids) in tidal marshes, in order to ascertain how the cordgrass is altering the ecosystem, for the purpose of enhancing their survival.

Permit No. TE-045994.

Applicant: U. S. Geological Service, Biological Resources Division, Western Ecological Research Center, San Diego Field Station, San Diego, California.

The applicant requests a recovery permit to take (conduct surveys, capture, and collect for voucher specimens) up to 20 each of unarmored threespine stickleback (Gasterosteus aculeatus), Santa Ana sucker (Catostomus santaanae), and Mojave tui chub (Gila bicolor mojavensis) and to take (conduct surveys, capture, take tissue samples, and salvage unlimited numbers of dead, sick, or malformed) desert slender salamander (Batrachoseps aridus), California red-legged frog (Rana aurora), and the California arroyo toad (Bufo microscaphus californicus) on Department of Interior lands in Los Angeles, Riverside, and San Bernardino Counties, California, in conjunction with population demographic studies, determining parasites present, and genetic studies, for the purpose of enhancing their survival.

DATES: Written comments on these permit applications must be received within 30 days of the date of publication of this notice.

ADDRESSES: Written data or comments should be submitted to the Chief, Endangered Species, Ecological Services, Fish and Wildlife Service, 911 NE. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Dated: August 17, 2001.
Rowan W. Gould,
Acting Regional Director, Region 1, Portland, Oregon.

[FR Doc. 01-21662 Filed 8-27-01; 8:45 am]

BILLING CODE 4310-55-P